DEPARTMENT OF AGRICULTURE

Agricultural Research Service

Notice of Intent To Reestablish the National Genetic Resources Advisory Council, and Request for Nominations

AGENCY: Agricultural Research Service, USDA.

ACTION: Notice of Intent and Request for Nominations.

SUMMARY: The USDA intends to reestablish the National Genetic Resources Advisory (Council).

The purpose of the Council is to formulate recommendations on actions and policies for the collections, maintenance, and utilization of genetic resources; to make recommendations for coordination of genetic resources plans of several domestic and international organizations; and to advise the Secretary of Agriculture and the National Genetic Resources Program Director of new and innovative approaches to genetic resources conservation.

DATES: Written nominations must be received on or before June 30, 2011.

ADDRESSES: Nominations should be sent to J. Robert Burk, Executive Director, REE Advisory Board Office, USDA, 1400 Independence Avenue, SW., Room 3901-S, Washington, DC 20250-0321; Fasimile: (202) 720-6199. E-mail: robert.burk@ars.usda.gov.

FOR FURTHER INFORMATION CONTACT: J. Robert Burk, Designated Federal Official; Phone: (202) 720-8408; E-mail robert.burk@ars.usda.gov.

SUPPLEMENTARY INFORMATION: Pursuant to the Federal Advisory Committee Act (FACA) (5 U.S.C. App.), notice is hereby given that the Secretary of Agriculture intends to reestablish the National Genetic Resources Advisory Council for 2 years. The purpose of the Council is to formulate recommendations on actions and policies for the collection, maintenance, and utilization of genetic resources; resources; to make recommendations for coordination of genetic resources plans of several domestic and international organizations; and to advise the Secretary of Agriculture and the National Genetic Resources Program Director of new and innovative approaches to genetic resources conservation. The Executive Director of the Research, Education, and Economics Advisory Board Office will serve as the Council's Executive Secretary. Representatives from USDA mission areas and agencies affecting the collection, preservation, and dissemination of genetic material of importance to American food and agriculture production will be called upon to participate in the Council's meetings as determined by the Council Chairperson. Members will be appointed by the Secretary of Agriculture and serve 4-year terms. Membership will consist of up to nine (9) appointed members, and seven (7) ex-officio members. Two-thirds of the appointed members will be from scientific disciplines relevant to the National Genetic Resources Program including agricultural sciences, environmental sciences, national resource sciences, health sciences, and nutritional sciences. One-third of the appointed members will be from the general public including leaders in, fields of public policy, trade, international development law, or management. The Secretary will appoint a Chairperson from the appointed members of the Council. The Secretary of Agriculture invites those individuals, organizations, and groups affiliated with the categories listed above to nominate individuals for membership on the reestablished Council. Nominations should describe and document the proposed member's qualifications for membership to the Council, and list their name, title, address, email address, telephone, and fax number. The Secretary of Agriculture seeks a diverse group of members representing a broad spectrum of persons interested in providing suggestions and ideas on how USDA can tailor its programs to help maintain purity of non-GE genetics, from germplasm to commercial use; and improve stewardship practices and develop new tools to lessen the risk of gene flow in agricultural commodities. Individuals who are nominated will receive necessary forms from the USDA for membership. The biographical information and clearance forms must be completed and returned to USDA within 10 working days of notification, to expedite the clearance process that is required before selection of Council members by the Secretary of Agriculture. Equal opportunity practices will be followed in all appointments to the Council in accordance with USDA policies. To ensure that the recommendations of the Council have taken into account the needs of the diverse groups served by USDA, membership shall include, to the extent practicable, individuals with demonstrated ability to represent minorities, women, persons with disabilities, and limited resource agriculture producers.

Dated: April 5, 2011.
Edward B. Knipling,
Administrator, ARS.

[FR Doc. 2011-11926 Filed 5-13-11; 8:45 am]

BILLING CODE 3410-03-P